DEPARTMENT OF ENERGY

Federal Energy Regulatory Commission

[Docket Nos. ER02-2001-017, Docket No. ER07-491-000, et al.]

Electric Quarterly Reports, Acacia Energy, Inc., et al.; Notice of Revocation of Market-Based Rate Tariff

Electric Quarterly Reports | Docket No. ER02-2001-017
Acacia Energy, Inc | Docket No. ER07-491-000
LBPC Power, Inc | Docket No. ER07-155-000
Nordic Energy, L.L.C | Docket No. ER01-2311-000
Nordic Marketing of Illinois, L.L.C | Docket No. ER03-888-000
Nordic Marketing of Michigan, L.L.C | Docket No. ER04-264-000
Nordic Marketing, L.L.C | Docket No. ER00-774-000
Pirin Solutions, Inc | Docket No. ER07-594-000
Tennessee Power Company | Docket No. ER95-581-000

On January 31, 2012, the Commission issued an order announcing its intent to revoke the market-based rate authority of the above captioned public utilities, which had failed to file their required Electric Quarterly Reports.¹ The Commission provided the utilities fifteen days in which to file their overdue Electric Quarterly Reports or face revocation of their market-based rate tariffs.

¹ Electric Quarterly Reports, 138 FERC ¶ 61,071 (2012) (January 31 Order).

In Order No. 2001, the Commission revised its public utility filing requirements and established a requirement for public utilities, including power marketers, to file Electric Quarterly Reports summarizing the contractual terms and conditions in their agreements for all jurisdictional services (including market-based power sales, cost-based power sales, and transmission service) and providing transaction information (including rates) for short-term and long-term power sales during the most recent calendar quarter.²

² Revised Public Utility Filing Requirements, Order No. 2001, 67 FR 31,043, FERC Stats. & Regs. ¶ 31,127, reh'g denied, Order No. 2001-A, 100 FERC ¶ 61,074, reconsideration and clarification denied, Order No. 2001-B, 100 FERC ¶ 61,342, order directing filings, Order No. 2001-C, 101 FERC ¶ 61,314 (2002), order directing filing, Order No. 2001-D, 102 FERC ¶ 61,334 (2003).

In the January 31 Order, the Commission directed Acacia Energy, Inc.; LBPC Power, Inc.; Nordic Energy, L.L.C.; Nordic Marketing of Illinois, L.L.C.; Nordic Marketing of Michigan, L.L.C.; Nordic Marketing, L.L.C.; Pirin Solutions, Inc.; and Tennessee Power Company to file the required Electric Quarterly Reports within 15 days of the date of issuance of the order or face revocation of their authority to sell power at market-based rates and termination of their electric market-based rate tariffs.³

³ January 31 Order at Ordering Paragraph A.

The time period for compliance with the January 31 Order has elapsed. The eight companies identified in the January 31 Order (Acacia Energy, Inc.; LBPC Power, Inc.; Nordic Energy, L.L.C.; Nordic Marketing of Illinois, L.L.C.; Nordic Marketing of Michigan, L.L.C.; Nordic Marketing, L.L.C.; Pirin Solutions, Inc.; and Tennessee Power Company) have failed to file their delinquent Electric Quarterly Reports.

The Commission hereby revokes the market-based rate authority and terminates the electric market-based rate tariffs of the above-captioned public utilities.

Dated: February 16, 2012.
Kimberly D. Bose,
Secretary.

[FR Doc. 2012-4408 Filed 2-24-12; 8:45 am]

BILLING CODE 6717-01-P